DEPARTMENT OF HOMELAND SECURITY

Coast Guard

33 CFR Part 165

[CGD09-03-248]

RIN 1625-AA00

Safety Zone; Captain of the Port Chicago Zone

AGENCY: Coast Guard, DHS.

ACTION: Notice of implementation of regulation.

SUMMARY: The Coast Guard is implementing safety zones for annual fireworks displays and other significant marine events in the Captain of the Port Chicago Zone during August 2003. This action is necessary to provide for the safety of life and property on navigable waters during these events. These zones will restrict vessel traffic from a portion of the Captain of the Port Chicago Zone.

DATES: Effective from 12:01 a.m. (Local) on August 1, 2003 to 11:59 p.m. (Local) on August 31, 2003.

FOR FURTHER INFORMATION CONTACT: MST2 Kenneth Brockhouse, U.S. Coast Guard Marine Safety Office Chicago, IL at (630) 986-2155.

SUPPLEMENTARY INFORMATION: The Coast Guard is implementing the permanent safety zones in 33 CFR 165.918(a)(13), (a)(8), (a)(10), and (a)(12) (68 FR 27466, May 20, 2003), for fireworks displays and other significant marine events in the Captain of the Port Chicago Zone during August 2003. The following safety zones are in effect for fireworks displays and other significant marine events occurring in the month of August 2003:

Navy Pier Summer Fireworks, Lake Michigan, Chicago, IL. This safety zone will be enforced every Wednesday and Saturday evening from 9 p.m. (local) until termination of the display.

Venetian Night Fireworks Monroe Street Harbor Chicago, IL. This safety zone will be enforced on August 2, 2003 from sunset until termination of the display.

YMCA Lake Michigan Swim Ferrysburg, MI. This safety zone will be enforced on August 16, 2003 from 8 a.m. (local) until the end of event.

Chicago River Flat Water Classic, Chicago River, Chicago, IL. This safety zone will be enforced on August 10, 2003 from 9 a.m. (local) until 3:30 p.m. (local).

In order to ensure the safety of spectators and transiting vessels, these safety zones will be in effect for the duration of the events. In cases where shipping is affected, commercial vessels may request permission from the Captain of the Port Chicago to transit the safety zone. Approval will be made on a case-by case basis. Requests must be made in advance and approved by the Captain of Port before transits will be authorized. The Captain of the Port may be contacted by calling (630) 986-2155.

Dated: July 28, 2003.
Terrence W. Carter,
Captain, Coast Guard, Captain of the Port Chicago.

[FR Doc. 03-20332 Filed 8-8-03; 8:45 am]

BILLING CODE 4910-15-P